DEPARTMENT OF TRANSPORTATION

Office of the Secretary

Notice of Applications for Certificates of Public Convenience and Necessity and Foreign Air Carrier Permits Filed Under Subpart Q During the Week Ending July 21, 2000

The following Applications for Certificates of Public Convenience and Necessity and Foreign Air Carrier Permits were filed under Subpart Q of the Department of Transportation's Procedural Regulations (See 14 CFR 302.1701 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-7668.

Date Filed: July 19, 2000.

Due Date for Answers, Conforming Applications, or Motion to Modify Scope: August 9, 2000.

Description: Application of Boston-Maine Airways Corp., d/b/a Pan Am Services (“BMAC”), pursuant to 49 U.S.C. Section 41102 and Subpart B, applies for a Certificate of Public Convenience and Necessity authorizing BMAC to engage in interstate scheduled service operations.

Andrea M. Jenkins,
Federal Register Liaison.

[FR Doc. 00-19238 Filed 7-28-00; 8:45 am]

BILLING CODE 4910-62-P